DEPARTMENT OF COMMERCE

National Oceanic and Atmospheric Administration

Federal Consistency Appeal by Electric Boat Corporation of New York State Department of State Objection

AGENCY: National Oceanic and Atmospheric Administration (NOAA), Department of Commerce (DOC).

ACTION: Notice of stay—closure of administrative appeal decision record.

SUMMARY: This announcement provides notice that the Department of Commerce has stayed, for a period of 28 days, closure of the decision record in an administrative appeal filed by Electric Boat Corporation (Appellant) under the Coastal Zone Management Act requesting that the Secretary of Commerce override an objection by the New York State Department of State to a consistency certification for a proposed project to dispose of dredged material in the Eastern Long Island Sound Dredged Material Disposal Site.

DATES: The decision record for Electric Boat Corporation's federal consistency appeal of New York State Department of State's objection will now close on August 31, 2020.

ADDRESSES: NOAA has provided access to publicly available materials and related documents comprising the appeal record on the following website: https://www.regulations.gov/docket?D=NOAA-HQ-2020-0021.

FOR FURTHER INFORMATION CONTACT: For questions about this Notice, contact Lauren Bregman, NOAA Office of the General Counsel, Oceans and Coasts Section, 1305 East-West Highway, Room 6111, Silver Spring, MD 20910, (301) 713-7389, lauren.bregman@noaa.gov.

SUPPLEMENTARY INFORMATION: On January 24, 2020, the NOAA Administrator, pursuant to authority delegated by the Secretary of Commerce to decide Coastal Zone Management Act of 1972 (CZMA) federal consistency appeals, received a “Notice of Appeal” filed by Electric Boat Corporation under the CZMA, 16 U.S.C. 1451 et seq., and implementing regulations found at 15 CFR part 930, subpart H. The Notice of Appeal is taken from an objection by the New York State Department of State to Appellant's consistency certification for a proposed U.S. Army Corps of Engineers permit to dispose of dredged material in the Eastern Long Island Sound Dredged Material Disposal Site.

Under the CZMA, the NOAA Administrator may override New York State Department of State's objection on grounds that the project is consistent with the objectives or purposes of the CZMA, or is necessary in the interest of national security. To make the determination that the proposed activity is “consistent with the objectives or purposes of the CZMA,” the Department of Commerce must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the NOAA Administrator must find that a national defense or other national security interest would be significantly impaired if the proposed activity is not permitted to go forward as proposed. 15 CFR 930.122.

The NOAA Administrator must close the decision record in a federal consistency appeal 160 days after the Notice of Appeal is published in the Federal Register. 15 CFR 930.130(a)(1). The CZMA, though, authorizes the NOAA Administrator to stay the closing of the decision record for up to 60 days when the NOAA Administrator determines it is necessary to receive, on an expedited basis, any supplemental information specifically requested by the NOAA Administrator to complete a consistency review. 15 CFR 930.130(a)(2), (3).

After reviewing the decision record developed to date, the NOAA Administrator has decided to solicit supplemental briefs from the Appellant and New York State Department of State pertaining to additional information including a July 17, 2020, comment letter received from the Department of the Navy. In order to allow time for the receipt of these briefs, the NOAA Administrator hereby stays closure of the decision record, currently scheduled to occur on August 3, 2020, until August 31, 2020.

Public Availability of Appeal Documents

NOAA has provided access to publicly available materials and related documents comprising the appeal record on the following website: https://www.regulations.gov/docket?D=NOAA-HQ-2020-0021.

Authority Citation: 15 CFR 930.130(a)(2), (3).

Adam Dilts,
Chief, Oceans and Coasts Section, NOAA Office of the General Counsel.

[FR Doc. 2020-16663 Filed 7-31-20; 8:45 am]

BILLING CODE 3510-JE-P